DEPARTMENT OF JUSTICE

Notice of Lodging of Consent Decree Between the United States of America and Erwin Grant and the Real Property Located at 3368 N.E. Martin Luther King, Jr. Boulevard Under the Comprehensive Environmental Response, Compensation, and Liability Act

Under 28 CFR 50.7, notice is hereby given that on December 19, 2003, a proposed Consent Decree (“Consent Decree”) in the case of United States of America v. Erwin Grant and Real Property Located at 3368 N.E. Martin Luther King, Jr. Boulevard, Civil Action No. 00-1536-BR (D. Or.), was lodged with the United States District Court for the District of Oregon.

In this action the United States sought recovery of costs incurred in connection with the response action taken at the Grant Warehouse Superfund Site, located at 3368 N.E. Martin Luther King, Jr. Boulevard, Portland, Oregon. The Consent Decree requires Erwin Grant, acting through his conservator, Ken Grant, to sell the Grant Warehouse to the Portland Development Commission, and to provide in the purchase and sale agreement that $88,500 (an amount expected to be half of the sale price) of the proceeds will be paid to the United States in reimbursement of response costs. In exchange, the United States will provide a covenant not to sue and contribution protection applicable to both the Grant Warehouse property and to Erwin Grant personally.

The Department of Justice will receive for a period of thirty (30) days from the date of this publication comments relating to the Consent Decree. Comments should be addressed to the Assistant Attorney General, Environment and Natural Resources Division, PO Box 7611, U.S. Department of Justice, Washington, DC 20044-7611, and should refer to United States of America v. Erwin Grant and Real Property Located at 3368 N.E. Martin Luther King, Jr. Boulevard, D.J. Ref. 90-11-3-06611/1.

The Consent Decree may be examined at the Office of the United States Attorney, District of Oregon, 1000 SW Third Ave., Suite 6000, Portland, OR 97204-2902, and at U.S. EPA Region 10, 1200 Sixth Avenue, Seattle, WA 98101. During the public comment period, the Consent Decree may be examined on the following Department of Justice Web site: http://www.usdoj.gov/enrd/open.html. A copy of the Consent Decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the United States Treasury for payment.

Robert Maher,
Assistant Section Chief, Environmental Enforcement Section, Environment and Natural Resources Division.

[FR Doc. 03-31876 Filed 12-24-03; 8:45 am]

BILLING CODE 4410-15-M